COMMODITY FUTURES TRADING COMMISSION

17 CFR Parts 1, 145 and 147

RIN 3038-AC05

Alternative Market Risk and Credit Risk Capital Charges for Futures Commission Merchants and Specified Foreign Currency Forward and Inventory Capital Charges

Correction

In rule document 06-982 beginning on page 5587 in the issue of Thursday, February 2, 2006, make the following correction:

On page 5587, in the second column, in footnote 4, in the eighth and ninth lines, “http://www.cftc.gov/foia/comment05/foi05_ _006_1.htm.” should read “http://www.cftc.gov/foia/comment05/foi05- -006_1.htm.”

[FR Doc. C6-982 Filed 2-17-06; 8:45 am]

BILLING CODE 1505-01-D